DEPARTMENT OF AGRICULTURE

Animal and Plant Health Inspection Service

[Docket No. 03-046-2]

Pigeonpea Pod Fly; Availability of an Environmental Assessment and Finding of No Significant Impact

AGENCY: Animal and Plant Health Inspection Service, USDA.

ACTION: Notice.

SUMMARY: We are advising the public that an environmental assessment and finding of no significant impact have been prepared by the Animal and Plant Health Inspection Service relative to the control of pigeonpea pod fly, Melanagromyza obtusa (Malloch) (Diptera: Agromyzidae). The environmental assessment documents our review and analysis of environmental impacts associated with alternatives for control of pigeonpea pod fly, as well as a recommendation for the use of biological control agents to suppress pigeonpea pod fly in the United States. Based on its finding of no significant impact, the Animal and Plant Health Inspection Service has determined that an environmental impact statement need not be prepared.

ADDRESSES: Copies of the environmental assessment and finding of no significant impact are available for public inspection in our reading room. The reading room is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: Dr. Dale Meyerdirk, Agriculturalist, National Biological Control Institute, PPQ, APHIS, 4700 River Road Unit 135, Riverdale, MD 20737-1236; (301) 734-5220.

SUPPLEMENTARY INFORMATION:

Background

Pigeonpea pod fly, Melanagromyza obtusa (Malloch) (Diptera: Agromyzidae), is a foreign plant pest that attacks numerous species of plants. The potential host range appears to be primarily restricted to legumes such as peas and beans, with some questionable exceptions such as okra and sesame. This pest can easily spread without detection. When the female pigeonpea pod fly punctures the legume pod and lays its eggs within, the only external evidence is varying degrees of damage caused by the punctures.

The pest is found throughout the world, including India, Ceylon, Indonesia, the Philippines, Taiwan, Thailand, Vietnam, and as far north as Japan. It also occurs in the U.S. territory of Puerto Rico. Pigeonpea pod fly is acclimated to cooler, northern climates and can tolerate dry conditions for part of the year. Therefore, suitable habitat exists throughout the United States, and the potential geographical distribution of the pigeonpea pod fly in the contiguous United States is extensive. Pigeonpea pod fly could enter the contiguous United States, Hawaii, or other U.S. territories from Puerto Rico, the Dominican Republic, or countries in the Pacific and become a serious agricultural threat to the United States.

On May 23, 2003, we published in the Federal Register (68 FR 28191-28192, Docket No. 03-046-1) a notice in which we announced the availability, for public review and comment, of an environmental assessment documenting our review and analysis of environmental impacts associated with alternatives for control of pigeonpea pod fly, as well as a recommendation for the use of biological control agents (specifically, parasitic Chalcid wasps of the genera Euderus, Eurytoma, and Ormyrus) to suppress pigeonpea pod fly in the United States. Other alternatives examined in the environmental assessment included no action, pesticides, cultural control, crop modification, and integrated pest management (IPM).

We solicited comments on the environmental assessment for 30 days ending on June 23, 2003. We received one comment by that date, from a State agricultural agency. The commenter supported the use of biological control against the pigeonpea pod fly, but questioned whether biological control alone would provide a significant level of control or suppression in all cases. Acknowledging that increased pesticide use is not a viable alternative either, the commenter recommended an IPM approach as the best alternative.

We have updated the environmental assessment to explain that if the pigeonpea pod fly is introduced into new areas of the United States and the introduction of parasitic Chalcid wasps does not totally resolve the problem, then IPM in some form may be adopted to for use to gain satisfactory control of the pest population.

In this document, we are advising the public of APHIS' finding of no significant impact regarding the release of parasitic Chalcid wasps of the genera Euderus, Eurytoma, and Ormyrus to reduce the severity of pigeonpea pod fly in the United States, including its Pacific and Caribbean territories. The finding, which is based on the environmental assessment, reflects our determination that release of these biological control agents will not have a significant impact on the quality of the human environment.

You may request copies of the environmental assessment and finding of no significant impact by calling or writing to the person listed under FOR FURTHER INFORMATION CONTACT. Please refer to the title of the environmental assessment when requesting copies. The environmental assessment is also available for review in our reading room (information on the location and hours of the reading room is listed under the heading ADDRESSES at the beginning of this notice).

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS’ NEPA Implementing Procedures (7 CFR part 372).

Done in Washington, DC, this 20th day of August 2004.
Kevin Shea,
Acting Administrator, Animal and Plant Health Inspection Service.

[FR Doc. 04-19518 Filed 8-25-04; 8:45 am]

BILLING CODE 3410-34-P